DEPARTMENT OF JUSTICE

Notice of Lodging of Consent Decree Under the Clean Air Act

Under 28 CER part 50.7, notice is hereby given that on November 7, 2001, a proposed Consent Decree in United States v. Aristech Chemical Corporation, Civil Action No. C-1-01-772, was lodged with the United States District Court for the Southern District of Ohio, Western Division.

In this action the United States seeks civil penalties and injunctive relief against Aristech Chemical Corporation (“Aristech”) pursuant to section 113(b) of the Clean Air Act (“CAA”), 42 U.S.C. 7413(b) (1983), amended by, 42 U.S.C. 7413(b) (Supp. 1991), for alleged violations at Aristech's Ironton, Ohio facility. Under the settlement, Aristech will pay a civil penalty of $450,000, and apply for and obtain a permit for the Phenol Expansion Project, under the CAA's Prevention of Significant Deterioration (“PSD”) program, from the State of Ohio, the permitting authority.

The Department of Justice will receive for a period of thirty (30) days from the date of this publication comments relating to the Consent Decree. Comments should be addressed to the Assistant Attorney General, Environment and Natural Resources Division, U.S. Department of Justice, PO Box 7611, Washington, DC 20044-7611, and should refer to United States v. Aristech Chemical Corporation, D.J. Ref. 90-5-2-1-06701/1.

The Consent Decree may be examined at the Office of the United States Attorney for the Southern District of Ohio, Western Division, Potter Stuart Federal Courthouse, 5th and Walnut Streets, Room 220, Cincinnati, Ohio 45202, and at U.S. EPA Region 5, 77 West Jackson Blvd., Chicago, Illinois 60604. A copy of the Consent Decree may also be obtained by mail from the Consent Decree Library, PO Box 7611, U.S. Department of Justice, Washington, DC 20044-7611. In requesting a copy, please enclose a check in the amount of $7.75 (25 cents per page reproduction cost) payable to the Consent Decree Library.

William D. Brighton,
Assistant Section Chief, Environmental Enforcement Section, Environment and Natural Resources, Division.

[FR Doc. 01-32223 Filed 12-31-01; 8:45 am]

BILLING CODE 4410-18-M